DEPARTMENT OF AGRICULTURE

Forest Service

Requested Withdrawal From Mineral Location and Mineral Entry, Public Meeting and Extended Comment Period

AGENCY: Forest Service, USDA.

ACTION: Notice of meeting; request for comment.

SUMMARY: The Forest Service has submitted a request to the Bureau of Land Management to withdraw lands under the general mining laws as authorized by the Federal Land Policy and Management Act of 1976. The Forest Service has scheduled a meeting to accept public testimony and identify issues regarding this requested withdrawal from mineral location and mineral entry on lands in the San Bernardino National Forest. Written comments are invited, and the comment period has been extended.

DATES: The meeting will be held on February 20, 2002, from 6 p.m. to 9 p.m. Written comments must be received no later than February 28, 2002.

ADDRESSES: The meeting will take place at the San Bernardino Hilton, 285 East Hospitality Lane, San Bernardino, California 92408. Written comments on this proposal may be sent to Brent Handley, USDA Forest Service, Pacific Southwest Region, Director, Lands and Minerals Management, 1323 Club Drive, Vallejo, California 94592-1110; or electronically to seliason@fs.fed.us.

FOR FURTHER INFORMATION CONTACT: Scott Eliason, San Bernardino National Forest, 909-866-3437, extension 3904, seliason@fs.fed.us.

SUPPLEMENTARY INFORMATION: The Bureau of Land Management published a notice of this Forest Service requested withdrawal in the Federal Register on October 29, 2001 (FR Vol. 66, No. 209, 54536). In this Forest Service notice, we announce the details of the public meeting and extend the comment period.

Overview

Approximately 44,575 acres on the San Bernardino National Forest are requested to be withdrawn, subject to valid existing rights, from mineral location and mineral entry under the general mining laws of the United States. The authority to make such a withdrawal is delegated to the Secretary of the Interior under the Federal Land Policy and Management Act of 1976, and other statutes. The process by which such withdrawals are made, and the provisions for other agencies (including the Forest Service) to request such withdrawals from the Secretary of the Interior, are provided under 43 CFR 2300.

Purpose

The purpose of the requested withdrawal is to conserve the habitat of species listed under the federal Endangered Species Act, as directed under section 7(a) of this act. The issues raised during the public meeting, and also from written comments, will be used by the Forest Service and the Bureau of Land Management in finalizing the configuration and extent of the final withdrawal request to be forwarded to the Secretary of the Interior. The issues raised will also be used by the Forest Service to analyze and document the effects and impacts of the action, as required under the National Environmental Policy Act.

Agenda

The meeting will begin with a welcome by Forest Supervisor Gene Zimmerman, followed by a brief overview by staff of the requested withdrawal, the regulatory process, and implications to the public. A hearing coordinator will review the process of public testimony. Testimony will then be heard and recorded into the public record. Finally, staff will provide closing remarks.

Dated: December 18, 2001.
Gene Zimmerman,
San Bernardino National Forest Supervisor.

[FR Doc. 01-31972 Filed 12-27-01; 8:45 am]

BILLING CODE 3410-11-M